DEPARTMENT OF LABOR

Office of Compliance Assistance Policy; Establishment of the DOL Partnerships for Compliance Assistance Program (PCAP) and Request for Applications for Partnerships

AGENCY: Office of Assistant Secretary for Policy/Office of Compliance Assistance Policy (ASP/OCA), U.S. Department of Labor (DOL).

ACTION: Notice.

SUMMARY: This notice announces the establishment of the DOL Partnerships for Compliance Assistance Program (PCAP) and an opportunity for partnerships.

The primary goal of these partnerships is to better inform businesses and workers, through nonprofit third-party membership organizations, of the compliance assistance tools and resources the Department has available to help them comply with its laws and regulations.

DATES: Letters of interest from organizations containing information identifying the organization, including promotional literature describing their mission/purpose statement and constituent information; Web site URL; and contact person's name, title, address and telephone number will be considered if we receive them at the appropriate address, as provided below, no later than 5 p.m. on April 21, 2004.

ADDRESSES: To submit letter of interest, or for further information on the Partnerships for Compliance Assistance Program (PCAP), you may write to the following address: Office of Compliance Assistance Policy, Office of the Assistant Secretary for Policy, U.S. Department of Labor, Attention: Barbara Bingham, 200 Constitution Ave. NW., Rm S2312, Washington, DC 20210.

FOR FURTHER INFORMATION CONTACT: Barbara Bingham, Director of the Office of Compliance Assistance Policy, (202) 693-5080, or visit http://www.dol.gov/compliance.

SUPPLEMENTARY INFORMATION:

Background

In accordance with the Secretary's Compliance Assistance Initiative, the Department of Labor (DOL), through the Office of Compliance Assistance Policy (OCA), will partner with various stakeholder organizations, specifically nonprofit third-party membership organizations, to increase the opportunity to provide DOL's customers with assistance in complying with federal employment laws. OCA is seeking partnership applications from nonprofit trade, professional or labor organizations that share DOL's understanding of the importance of providing clear, accurate and easy-to-access compliance assistance for employers and other stakeholders, in order to protect the wages, health benefits, retirement security, safety and health of America's workforce.

Partnership efforts will be designed to provide nonprofit third-party organizations and their members with an awareness of the various laws and regulations DOL administers and where to get information on compliance assistance. These partnerships will enable DOL to reach a greater number of businesses and workers than it could solely through its own outreach efforts.

Signed at Washington, DC, this 16th day of March, 2004.
Barbara Bingham,
Director, Office of Compliance Assistance Policy.

[FR Doc. 04-6285 Filed 3-19-04; 8:45 am]

BILLING CODE 4510-23-M